ENVIRONMENTAL PROTECTION AGENCY

[FRL-7574-2]

Integrated Risk Information System (IRIS); Administrative Changes

AGENCY: U.S. Environmental Protection Agency.

ACTION: Notice; administrative changes in the Integrated Risk Information System hotline and records center.

SUMMARY: IRIS is an EPA data base that contains EPA scientific consensus positions on human health effects that may result from chronic exposure to chemical substances in the environment. In this action, EPA is announcing an upcoming change to the location and phone number of EPA's contractor-operated IRIS hotline and publically-accessible records center.

DATES: On or about October 17, 2003.

ADDRESSES: The new address of the IRIS Hotline and records center will be IRIS Hotline, (Mail Code 28221T) EPA-West Building, 1301 Constitution Avenue, NW, Washington DC 20005.

FOR FURTHER INFORMATION CONTACT: For information on this administrative change, contact Rick Johnson, IRIS staff, National Center for Environmental Assessment (mail code 8601D), Office of Research and Development, U.S. Environmental Protection Agency, Washington, DC 20460, or call (202) 564-3291, or send electronic mail inquiries to johnson.rickc@epa.gov. For information on the IRIS program, contact Amy Mills, Program Director, National Center for Environmental Assessment (mail code 8601D), Office of Research and Development, U.S. Environmental Protection Agency, Washington, DC 20460, or call (202) 564-3204, or send electronic mail inquiries to mills.amy@epa.gov.

SUPPLEMENTARY INFORMATION:

Background

IRIS is an EPA data base containing Agency consensus scientific positions on potential adverse human health effects that may result from chronic (or lifetime) exposure to chemical substances found in the environment. IRIS currently provides information on health effects associated with more than 500 chemical substances. EPA has provided outreach to facilitate the use and understanding of the data base. These efforts include a telephone hotline which provides answers to public inquiries about access to IRIS, the content of specific IRIS health assessments, and risk assessment methodologies. EPA also operates a reading room where the public may, by appointment, view background files supporting IRIS assessments. Further, EPA provides IRIS on the Internet for public access at http://www.epa.gov/iris.

Today's Action

EPA is moving the hotline function and reading room to the Agency's combined docket facility, the EPA Docket Center. The hotline will be accessed via a new phone number and fax number. The hotline email address will remain as Hotline.IRIS@epamail.epa.gov. The reading room address, hotline phone and fax changes will be shown on the IRIS Web site no later than October 15, 2003.

Dated: October 7, 2003.
Peter W. Preuss,
Director, National Center for Environmental Assessment.

[FR Doc. 03-25936 Filed 10-10-03; 8:45 am]

BILLING CODE 6560-50-M